DEPARTMENT OF AGRICULTURE

Animal and Plant Health Inspection Service

7 CFR Part 319

[Docket No. APHIS-2016-0022]

RIN 0579-AE29

Importation of Hass Avocados From Colombia

AGENCY: Animal and Plant Health Inspection Service, USDA.

ACTION: Proposed rule; reopening of comment period.

SUMMARY: We are reopening the comment period for a proposed rule to allow the importation of Hass avocados from Colombia into the continental United States. We are also notifying the public of the availability of a revised pest risk assessment and risk management document associated with the proposed rule. This action will allow interested persons additional time to prepare and submit comments.

DATES: The comment period for the proposed rule published on October 27, 2016 (81 FR 74722) is reopened. We will consider all comments that we receive on or before February 16, 2017.

ADDRESSES: You may submit comments by either of the following methods:

• Federal eRulemaking Portal: Go to http://www.regulations.gov/#!docketDetail;D=APHIS-2016-0022.

• Postal Mail/Commercial Delivery: Send your comments to Docket No. APHIS-2016-0022, Regulatory Analysis and Development, PPD, APHIS, Station 3A-03.8, 4700 River Road, Unit 118, Riverdale, MD 20737-1238.

Supporting documents and any comments we receive on this docket may be viewed at http://www.regulations.gov/#!docketDetail;D=APHIS-2016-0022 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David B. Lamb, Senior Regulatory Policy Specialist, USDA/APHIS/PPQ, 4700 River Road, Unit 133, Riverdale, MD 20737-1236; (301) 851-2103; David.B.Lamb@aphis.usda.gov.

SUPPLEMENTARY INFORMATION: On October 27, 2016, we published in the Federal Register (81 FR 74722-74727, Docket No. APHIS-2016-0022) a proposed rule to authorize the importation of Hass avocados from Colombia into the continental United States.

The pest risk assessment (PRA) that we used in order to draft the risk management document (RMD) associated with the rule, as well as the rule itself, considered Maconellicoccus hirsutus (Green), pink hibiscus mealybug, to be a pest of quarantine significance that could follow the pathway of Hass avocados from Colombia to the continental United States. However, this PRA was not the latest iteration that had been prepared. Rather, a subsequent iteration found that growing conditions for Hass avocados in Colombia, as well as standard packinghouse practices used in Colombia to prepare Hass avocados for export for commercial distribution, effectively preclude pink hibiscus mealybug from following the pathway of Hass avocados from Colombia to the continental United States.

We are making the more recent version of the PRA available for public review and comment, as well as a revised version of the RMD that reflects this change. Because there were no pink hibiscus mealybug-specific provisions in the proposed rule, however, we do not consider it necessary to modify the provisions of the proposed rule.

Comments on the proposed rule were required to be received on or before December 27, 2016. We are reopening the comment period on Docket No. APHIS-2016-0022 for an additional 30 days. We will also consider all comments received between December 28, 2016, and the date of this notice. This action will allow interested persons additional time to review the new PRA and RMD, and prepare and submit comments.

Authority: 7 U.S.C. 450, 7701-7772, and 7781-7786; 21 U.S.C. 136 and 136a; 7 CFR 2.22, 2.80, and 371.3.

Done in Washington, DC, this 9th day of January, 2017.
Kevin Shea,
Administrator, Animal and Plant Health Inspection Service.

[FR Doc. 2017-00672 Filed 1-13-17; 8:45 am]

BILLING CODE 3410-34-P